DEPARTMENT OF EDUCATION

DEPARTMENT OF HEALTH AND HUMAN SERVICES

Applications for New Awards; Race to the Top—Early Learning Challenge

AGENCY: Department of Education and Department of Health and Human Services.

ACTION: Notice.

Overview Information:

Race to the Top—Early Learning Challenge (RTT-ELC)

Notice inviting applications for new awards for fiscal year (FY) 2013.

Catalog of Federal Domestic Assistance (CFDA) Number: 84.412A.

DATES: Applications Available: August 30, 2013.

Deadline for Notice of Intent to Apply: September 30, 2013.

Note: Submission of a notice of intent to apply is optional.

Date of Technical Assistance Planning Workshop: September 10, 2013. Note: Please refer to the Department of Education's RTT-ELC Web site (http://www2.ed.gov/programs/racetothetop-earlylearningchallenge/index.html) for meeting details.

Deadline for Transmittal of Applications: October 16, 2013.

Full Text of Announcement

I. Funding Opportunity Description

Purpose of Program: The purpose of the Race to the Top—Early Learning Challenge (RTT-ELC) program is to improve the quality of early learning and development and close the educational gaps for Children with High Needs.¹ This program focuses on improving early learning and development for young children by supporting States' efforts to increase the number of low-income and disadvantaged children in each age group of infants, toddlers, and preschoolers who are enrolled in high-quality Early Learning and Development Programs. The program also supports States' efforts to design and implement an integrated system of high-quality Early Learning and Development Programs and services.

¹ Defined terms are used throughout the notice and are indicated by capitalization.

SUPPLEMENTARY INFORMATION:

The Statutory Context and Program Overview:

Race to the Top—Early Learning Challenge

A critical focus of the U.S. Department of Education (ED) and the U.S. Department of Health and Human Services (HHS) (collectively, the “Departments”) is supporting America's youngest learners and helping ensure that children, especially Children with High Needs, enter kindergarten ready to succeed in school and in life. A robust body of research demonstrates that high-quality Early Learning and Development Programs can improve young children's health, social-emotional, and cognitive outcomes; enhance school readiness; and help close the educational gaps that exist between Children with High Needs and their peers at the time they enter kindergarten.

To address these gaps, the Departments have identified, as high priorities, strengthening the quality of existing Early Learning and Development Programs and increasing access to high-quality Early Learning and Development Programs for all children, especially for Children with High Needs.

On May 25, 2011, Secretaries Arne Duncan and Kathleen Sebelius announced the RTT-ELC, a new $500 million State-level grant competition authorized under the American Recovery and Reinvestment Act of 2009 (ARRA), as amended. Through the RTT-ELC program, the Departments seek to help close the educational gaps between Children with High Needs and their peers by supporting State efforts to build strong systems of early learning and development that provide increased access to high-quality programs for the children who need them most.

The RTT-ELC program represents an unprecedented opportunity for States to focus deeply on their early learning and development systems for children from birth through age five. Fourteen States have thus far received RTT-ELC grants and are able to build a more unified approach to supporting young children and their families—an approach that increases access to high-quality Early Learning and Development Programs and helps ensure that children enter kindergarten with the skills, knowledge, and dispositions toward learning they need to be successful in school and in life.

In this notice, we announce the specific priorities, requirements, definitions, and selection criteria that the Departments will use in the FY 2013 RTT-ELC competition. The priorities, requirements, definitions, and selection criteria in this notice are in large part identical to those in the FY 2011 notice inviting applications (see 76 FR 53564).

The FY 2013 RTT-ELC competition is organized around five key reform areas representing the foundation of an effective early learning and development reform agenda focused on school readiness and ongoing educational success. These areas provide a framework for the competition's priorities, requirements, definitions, and selection criteria, and are as follows:

(A) Successful State Systems;

(B) High-Quality, Accountable Programs;

(C) Promoting Early Learning and Development Outcomes for Children;

(D) A Great Early Childhood Education Workforce; and

(E) Measuring Outcomes and Progress.

The first two of these reform areas, (A) and (B), are core areas of focus for this program (“Core Areas”), and applicants are required to respond to all selection criteria under these Core Areas. The reform areas in (C), (D), and (E) are areas where applicants will direct targeted attention to specific activities that are relevant to their States' context (“Focused Investment Areas”). Applicants are required to address each Focused Investment Area but not each of the selection criteria under them.

Priorities: These priorities are from the notice of final priorities, requirements, definitions, and selection criteria for this program, published elsewhere in this issue of the Federal Register.

Absolute Priority: For FY 2013 and any subsequent year in which we make awards from the list of unfunded applicants from this competition, this priority is an absolute priority. Under 34 CFR 75.105(c)(3) we consider only applications that meet this priority.

This priority is:

Priority 1: Promoting School Readiness for Children with High Needs.

To meet this priority, the State's application must comprehensively and coherently address how the State will build a system that increases the quality of Early Learning and Development Programs for Children with High Needs so that they enter kindergarten ready to succeed.

The State's application must demonstrate how it will improve the quality of Early Learning and Development Programs by integrating and aligning resources and policies across Participating State Agencies and by designing and implementing a common, statewide Tiered Quality Rating and Improvement System. In addition, to achieve the necessary reforms, the State must make strategic improvements in those areas that will most significantly improve program quality and outcomes for Children with High Needs. Therefore, the State must address those criteria from within each of the Focused Investment Areas (sections (C) Promoting Early Learning and Development Outcomes for Children, (D) A Great Early Childhood Education Workforce, and (E) Measuring Outcomes and Progress) that it believes will best prepare its Children with High Needs for kindergarten success.

Competitive Preference Priorities: For FY 2013 and any subsequent year in which we make awards from the list of unfunded applicants from this competition, these priorities are competitive preference priorities. Under 34 CFR 75.105(c)(2)(i) we award up to an additional 10 points to an application depending on how well the application meets Priority 2; we award up to an additional 10 points to an application depending on how well the application meets Priority 4; we award an additional 10 points (all or none) to an application that meets Priority 3; and we will award up to an additional 5 points depending on how well the application meets Priority 5. The maximum score for all of the competitive preference priorities is 35 points.

Applicants that choose to address Priority 2, Priority 4, and Priority 5 must provide a narrative in the space provided in the application, and applicants that choose to address Priority 3 must do so by writing to selection criterion (E)(1).

These priorities are:

Priority 2: Including All Early Learning and Development Programs in the Tiered Quality Rating and Improvement System.

Priority 2 is designed to increase the number of children from birth to kindergarten entry who are participating in programs that are governed by the State's licensing system and quality standards, with the goal that all licensed or State-regulated programs will participate. The State will meet this priority based on the extent to which the State has in place, or has a High-Quality Plan to implement no later than June 30th of the fourth year of the grant—

(a) A licensing and inspection system that covers all programs that are not otherwise regulated by the State and that regularly care for two or more unrelated children for a fee in a provider setting; provided that if the State exempts programs for reasons other than the number of children cared for, the State may exclude those entities and reviewers will determine whether an applicant has met this priority only on the basis of non-excluded entities; and

(b) A Tiered Quality Rating and Improvement System in which all licensed or State-regulated Early Learning and Development Programs participate.

Priority 3: Understanding the Status of Children's Learning and Development at Kindergarten Entry.

To meet this priority, the State must, in its application, address selection criterion (E)(1) and earn a score of at least 70 percent of the maximum points available for that criterion.

Note: A State will earn all 10 competitive preference priority points if a majority of reviewers determines that the State has met the competitive preference priority. A State earns zero points if a majority of reviewers determines that the applicant has not met the competitive preference priority.

Priority 4: Creating Preschool through Third Grade Approaches to Sustain Improved Early Learning Outcomes through the Early Elementary Grades.

Priority 4 is designed to build upon the State's High-Quality Plan to improve birth through age five early learning outcomes, and to sustain and extend improved early learning outcomes through the early elementary school years, including by leveraging existing Federal, State, and local resources. The State will meet this priority based on the extent to which it describes a High-Quality Plan to improve the overall quality, alignment, and continuity of teaching and learning to serve children from preschool through third grade through such activities as—

(a) Enhancing the State's kindergarten-through-third-grade standards to align them with the State's Early Learning and Development Standards across all Essential Domains of School Readiness;

(b) Identifying and addressing the health, behavioral, and developmental needs of Children with High Needs from preschool through third grade, and building families' capacity to address these needs;

(c) Implementing teacher preparation and professional development programs and strategies that emphasize developmental science and the importance of protective factors, pedagogy, and the delivery of developmentally appropriate content, strategies for identifying and addressing the needs of children experiencing social and emotional challenges, and effective family engagement strategies for educators, administrators, and related personnel serving children from preschool through third grade;

(d) Implementing model systems of collaboration both within and between Early Learning and Development Programs and elementary schools to engage and support families and improve all transitions for children across the birth through third grade continuum;

(e) Building or enhancing data systems to monitor the status of children's learning and development from preschool through third grade to inform families and support student progress in meeting critical educational benchmarks in the early elementary grades; and

(f) Other efforts designed to increase the percentage of children who are able to read and do mathematics at grade level by the end of the third grade.

Priority 5: Addressing the Needs of Children in Rural Areas.

The State will meet this priority based on the extent to which it describes:

(a) How it will implement approaches to address the unique needs (e.g., limited access to resources) of children in rural areas, including rural areas with small populations; and

(b) How these approaches are designed to close educational and opportunity gaps for Children with High Needs, increase the number and percentage of Low-Income children who are enrolled in high-quality Early Learning and Development Programs; and enhance the State's integrated system of high-quality early learning programs and services.

Invitational Priority: For FY 2013 and any subsequent year in which we make awards from the list of unfunded applicants from this competition, this priority is an invitational priority. Under 34 CFR 75.105(c)(1) we do not give an application that meets this invitational priority a competitive or absolute preference over other applications.

This priority is:

Priority 6: Encouraging Private-Sector Support.

The State will meet this priority based on the extent to which it describes how the private sector will provide financial and other resources to support the State and its Participating State Agencies or Participating Programs in the implementation of the State Plan.

Application Requirements: Each application must meet the following application requirements:

(a) The State's application must be signed by the Governor or an authorized representative; an authorized representative from the Lead Agency; and an authorized representative from each Participating State Agency.

(b) The State must submit a certification from the State Attorney General or an authorized representative that the State's description of, and statements and conclusions in its application concerning, State law, statute, and regulation are complete and accurate and constitute a reasonable interpretation of State law, statute, and regulation.

(c) The State must complete the budget spreadsheets that are provided in the application package and submit the completed spreadsheet as part of its application. These spreadsheets should be included on the CD or DVD that the State submits as its application.

(d) The State must submit preliminary scopes of work for each Participating State Agency as part of the executed memorandum of understanding (MOU) or other binding agreement. Each preliminary scope of work must describe the portions of the State's proposed plans that the Participating State Agency is agreeing to implement. If a State is awarded an RTT-ELC grant, the State will have up to 90 days to complete final scopes of work for each Participating State Agency.

(e) The State must include a budget that details how it will use grant funds awarded under this competition, and funds from other Federal, State, private, and local sources to achieve the outcomes of the State Plan (as described in selection criterion (A)(4)(a)), and how the State will use funds awarded under this program to—

(1) Achieve its ambitious yet achievable targets for increasing the number and percentage of Early Learning and Development Programs that are participating in the State's Tiered Quality Rating and Improvement System (as described in selection criterion (B)(2)(c)); and

(2) Achieve its ambitious yet achievable targets for increasing the number and percentage of Children with High Needs who are enrolled in Early Learning and Development Programs that are in the top tiers of the State's Tiered Quality Rating and Improvement System (as described in selection criterion (B)(4)(c)).

(f) The State must provide an overall summary for the State Plan and a rationale for why it has chosen to address the selected criteria in each Focused Investment Area, including—

• How the State's choices build on its progress to date in each Focused Investment Area (as outlined in Tables (A)(1)6-13 and the narrative under (A)(1)); and

• Why these selected criteria will best achieve the State's ambitious yet achievable goals for improving program quality, improving outcomes for Children with High Needs statewide, and closing the educational gaps between Children with High Needs and their peers.

(g) The State, within each Focused Investment Area, must select and address—

• Two or more selection criteria within Focused Investment Area (C) Promoting Early Learning and Development Outcomes for Children; and

• One or more selection criteria within Focused Investment Areas (D) A Great Early Childhood Education Workforce and (E) Measuring Outcomes and Progress.

(h) Where the State is submitting a High-Quality Plan, the State must include in its application a detailed plan that is feasible and includes, but need not be limited to—

(1) The key goals;

(2) The key activities to be undertaken; the rationale for the activities; and, if applicable, where in the State the activities will be initially implemented, and where and how they will be scaled up over time to eventually achieve statewide implementation;

(3) A realistic timeline, including key milestones, for implementing each key activity;

(4) The party or parties responsible for implementing each activity and other key personnel assigned to each activity;

(5) Appropriate financial resources to support successful implementation of the plan;

(6) The information requested as supporting evidence, if any, together with any additional information the State believes will be helpful to peer reviewers in judging the credibility of the plan;

(7) The information requested or required in the performance measures, where applicable;

(8) How the State will address the needs of the different types of Early Learning and Development Programs, if applicable; and

(9) How the State will meet the unique needs of Children with High Needs.

Program Requirements: If a State is awarded an RTT-ELC grant, it must meet the following requirements:

(a) The State must have an operational State Advisory Council on Early Childhood Education and Care that meets the requirements described in section 642B(b) of the Head Start Act (42 U.S.C. 9837(b)). In addition, the State Advisory Council on Early Childhood Education and Care must include the State's Child Care and Development Fund (CCDF) administrator, State agency coordinators from both Part B section 619 and Part C of the Individuals with Disabilities Education Act (IDEA), and State agency representatives responsible for health and mental health.

(b) The State must continue to participate in the programs authorized under section 619 of Part B of IDEA and Part C of IDEA and in the CCDF program.

(c) States must continue to have an active Maternal, Infant, and Early Childhood Home Visiting (MIECHV) program (pursuant to section 511 of Title V of the Social Security Act, as added by section 2951 of the Affordable Care Act of 2010 (Pub. L. 111-148)) for the duration of the grant, whether operated by the State or by an eligible non-profit organization.

(d) The State is prohibited from spending funds from the grant on the direct delivery of health services.

(e) The State must participate in RTT-ELC grantee technical assistance activities facilitated by ED or HHS, individually or in collaboration with other State grantees in order to share effective program practices and solutions and collaboratively solve problems, and must set aside $400,000 from its grant funds for this purpose.

(f) The State must—

(1) Comply with the requirements of any evaluation sponsored by ED or HHS of any of the State's activities carried out with the grant;

(2) Comply with the requirements of any cross-State evaluation—as part of a consortium of States—of any of the State's proposed reforms, if that evaluation is coordinated or funded by ED or HHS, including by using common measures and data collection instruments and collecting data necessary to the evaluation;

(3) Together with its independent evaluator, if any, cooperate with any technical assistance regarding evaluations provided by ED or HHS. The purpose of this technical assistance will be to ensure that the validation of the State's Tiered Quality Rating and Improvement System and any other evaluations conducted by States or their independent evaluators, if any, are of the highest quality and to encourage commonality in approaches where such commonality is feasible and useful;

(4) Submit to ED and HHS for review and comment its design for the validation of its Tiered Quality Rating and Improvement System (as described in selection criterion (B)(5)) and any other evaluations of activities included in the State Plan, including any activities that are part of the State's Focused Investment Areas, as applicable; and

(5) Make widely available through formal (e.g., peer-reviewed journals) or informal (e.g., newsletters) mechanisms, and in print or electronically, the results of any evaluations it conducts of its funded activities.

(g) The State must have a longitudinal data system that includes the 12 elements described in section 6401(e)(2)(D) of the America COMPETES Act by the date required under the State Fiscal Stabilization Fund (SFSF) grant and in accordance with Indicator (b)(1) of its approved SFSF plan.

(h) The State must comply with the requirements of all applicable Federal, State, and local privacy laws, including the requirements of the Family Educational Rights and Privacy Act, the Health Insurance Portability Accountability Act, and the privacy requirements in IDEA, and their applicable regulations.

(i) The State must ensure that the grant activities are implemented in accordance with all applicable Federal, State, and local laws.

(j) The State must provide researchers with access, consistent with the requirements of all applicable Federal, State, and local privacy laws, to data from its Tiered Quality Rating and Improvement System and from the Statewide Longitudinal Data System and the State's coordinated early learning data system (if applicable) so that they can analyze the State's quality improvement efforts and answer key policy and practice questions.

(k) Unless otherwise protected as proprietary information by Federal or State law or a specific written agreement, the State must make any work (e.g., materials, tools, processes, systems) developed under its grant freely available to the public, including by posting the work on a Web site identified or sponsored by ED or HHS. Any Web sites developed under this grant must meet government or industry-recognized standards for accessibility (www.section508.gov/).

(l) Funds made available under an RTT-ELC grant must be used to supplement, not supplant, any Federal, State, or local funds that, in the absence of the funds awarded under this grant, would be available for increasing access to and improving the quality of Early Learning and Development Programs.

(m) For a State that is awarded an RTT-ELC grant, the State will have up to 90 days from the grant award notification date to complete final scopes of work for each Participating State Agency. These final scopes of work must contain detailed work plans that are consistent with their corresponding preliminary scopes of work and with the State's grant application, and must include the Participating State Agency's specific goals, activities, timelines, budgets, key personnel, and annual targets for key performance measures for the portions of the State's proposed plans that the Participating State Agency is agreeing to implement.

Program Definitions:

Children with High Needs means children from birth through kindergarten entry who are from Low-Income families or otherwise in need of special assistance and support, including children who have disabilities or developmental delays; who are English learners; who reside on “Indian lands” as that term is defined by section 8013(7) of the Elementary and Secondary Education Act of 1965, as amended (ESEA); who are migrant, homeless, or in foster care; and other children as identified by the State.

Common Education Data Standards (CEDS) means voluntary, common standards for a key set of education data elements (e.g., demographics, program participation, transition, course information) at the early learning, K-12, and postsecondary levels developed through a national collaborative effort being led by the National Center for Education Statistics. CEDS focus on standard definitions, code sets, and technical specifications of a subset of key data elements and are designed to increase data interoperability, portability, and comparability across Early Learning and Development Programs and agencies, States, local educational agencies, and postsecondary institutions.

Comprehensive Assessment System means a coordinated and comprehensive system of multiple assessments, each of which is valid and reliable for its specified purpose and for the population with which it will be used, that organizes information about the process and context of young children's learning and development in order to help Early Childhood Educators make informed instructional and programmatic decisions and that conforms to the recommendations of the National Research Council reports on early childhood.

A Comprehensive Assessment System includes, at a minimum—

(a) Screening Measures;

(b) Formative Assessments;

(c) Measures of Environmental Quality; and

(d) Measures of the Quality of Adult-Child Interactions.

Data System Oversight Requirements means policies for ensuring the quality, privacy, and integrity of data contained in a data system, including—

(a) A data governance policy that identifies the elements that are collected and maintained; provides for training on internal controls to system users; establishes who will have access to the data in the system and how the data may be used; sets appropriate internal controls to restrict access to only authorized users; sets criteria for determining the legitimacy of data requests; establishes processes that verify the accuracy, completeness, and age of the data elements maintained in the system; sets procedures for determining the sensitivity of each inventoried element and the risk of harm if those data were improperly disclosed; and establishes procedures for disclosure review and auditing; and

(b) A transparency policy that informs the public, including families, Early Childhood Educators, and programs, of the existence of data systems that house personally identifiable information, explains what data elements are included in such a system, enables parental consent to disclose personally identifiable information as appropriate, and describes allowable and potential uses of the data.

Early Childhood Educator means any professional working in an Early Learning and Development Program, including but not limited to center-based and family child care providers; infant and toddler specialists; early intervention specialists and early childhood special educators; home visitors; related services providers; administrators such as directors, supervisors, and other early learning and development leaders; Head Start teachers; Early Head Start teachers; preschool and other teachers; teacher assistants; family service staff; and health coordinators.

Early Learning and Development Program means any (a) State-licensed or State-regulated program or provider, regardless of setting or funding source, that provides early care and education for children from birth to kindergarten entry, including, but not limited to, any program operated by a child care center or in a family child care home; (b) preschool program funded by the Federal Government or State or local educational agencies (including any IDEA-funded program); (c) Early Head Start and Head Start program; and (d) a non-relative child care provider who is not otherwise regulated by the State and who regularly cares for two or more unrelated children for a fee in a provider setting. A State should include in this definition other programs that may deliver early learning and development services in a child's home, such as the MIECHV; Early Head Start; and Part C of IDEA.²

² Note: Such home-based programs and services will most likely not participate in the State's Tiered Quality Rating and Improvement System unless the State has developed a set of tiered Program Standards specifically for home-based programs and services.

Early Learning and Development Standards means a set of expectations, guidelines, or developmental milestones that—

(a) Describe what all children from birth to kindergarten entry should know and be able to do and their disposition toward learning;

(b) Are appropriate for each age group (e.g., infants, toddlers, and preschoolers); for English learners; and for children with disabilities or developmental delays;

(c) Cover all Essential Domains of School Readiness; and

(d) Are universally designed and developmentally, culturally, and linguistically appropriate.

Early Learning Intermediary Organization means a national, statewide, regional, or community-based organization that represents one or more networks of Early Learning and Development Programs in the State and that has influence or authority over them. Such Early Learning Intermediary Organizations include, but are not limited to, Child Care Resource and Referral Agencies; State Head Start Associations; Family Child Care Associations; State affiliates of the National Association for the Education of Young Children; State affiliates of the Council for Exceptional Children's Division of Early Childhood; statewide or regional union affiliates that represent Early Childhood Educators; affiliates of the National Migrant and Seasonal Head Start Association; the National Tribal, American Indian, and Alaskan Native Head Start Association; and the National Indian Child Care Association.

Essential Data Elements means the critical child, program, and workforce data elements of a coordinated early learning data system, including—

(a) A unique statewide child identifier or another highly accurate, proven method to link data on that child, including Kindergarten Entry Assessment data, to and from the Statewide Longitudinal Data System and the coordinated early learning data system (if applicable);

(b) A unique statewide Early Childhood Educator identifier;

(c) A unique program site identifier;

(d) Child and family demographic information, including indicators identifying the criteria that States use to determine whether a child is a Child with High Needs;

(e) Early Childhood Educator demographic information, including data on educational attainment and State credential or licenses held, as well as professional development information;

(f) Program-level data on the program's structure, quality, child suspension and expulsion rates, staff retention, staff compensation, work environment, and all applicable data reported as part of the State's Tiered Quality Rating and Improvement System; and

(g) Child-level program participation and attendance data.

Essential Domains of School Readiness means the domains of language and literacy development, cognition and general knowledge (including early mathematics and early scientific development), approaches toward learning, physical well-being and motor development (including adaptive skills), and social and emotional development.

Formative Assessment (also known as a classroom-based or ongoing assessment) means assessment questions, tools, and processes—

(a) That are—

(1) Specifically designed to monitor children's progress in meeting the Early Learning and Development Standards;

(2) Valid and reliable for their intended purposes and their target populations; and

(3) Linked directly to the curriculum; and

(b) The results of which are used to guide and improve instructional practices.

High-Quality Plan means any plan developed by the State to address a selection criterion or priority in this notice that is feasible and has a high probability of successful implementation and at a minimum includes—

(a) The key goals;

(b) The key activities to be undertaken; the rationale for the activities; and, if applicable, where in the State the activities will be initially implemented, and where and how they will be scaled up over time to eventually achieve statewide implementation;

(c) A realistic timeline, including key milestones, for implementing each key activity;

(d) The party or parties responsible for implementing each activity and other key personnel assigned to each activity;

(e) Appropriate financial resources to support successful implementation of the plan;

(f) The information requested as supporting evidence, if any, together with any additional information the State believes will be helpful to peer reviewers in judging the credibility of the plan;

(g) The information requested in the performance measures, where applicable;

(h) How the State will address the needs of the different types of Early Learning and Development Programs, if applicable; and

(i) How the State will meet the needs of Children with High Needs.

Kindergarten Entry Assessment means an assessment that—

(a) Is administered to children during the first few months of their admission into kindergarten;

(b) Covers all Essential Domains of School Readiness;

(c) Is used in conformance with the recommendations of the National Research Council ³ reports on early childhood; and

³ National Research Council. (2008). Early Childhood Assessment: Why, What, and How. Committee on Developmental Outcomes and Assessments for Young Children, C.E. Snow and S.B. Van Hemel, Editors. Board on Children, Youth, and Families, Board on Testing and Assessment, Division of Behavioral and Social Sciences and Education. Washington, DC: The National Academies Press. www.nap.edu/catalog.php?record_id=12446.

(d) Is valid and reliable for its intended purposes and for the target populations and aligned to the Early Learning and Development Standards.

Results of the assessment should be used to inform efforts to close the school readiness gap at kindergarten entry, to inform instruction in the early elementary school grades, and to inform parents about their children's status and involve them in decisions about their children's education. This assessment must not be used to prevent children's entry into kindergarten or as a single measure for high-stakes decisions.

Lead Agency means the State-level agency designated by the Governor for the administration of the RTT-ELC grant; this agency is the fiscal agent for the grant. The Lead Agency must be one of the Participating State Agencies.

Low-Income means having an income of up to 200 percent of the Federal poverty rate.

Measures of Environmental Quality means valid and reliable indicators of the overall quality of the early learning environment.

Measures of the Quality of Adult-Child Interactions means the measures obtained through valid and reliable processes for observing how teachers and caregivers interact with children, where such processes are designed to promote child learning and to identify strengths of and areas for improvement for early learning professionals.

Participating Program means an Early Learning and Development Program that elects to carry out activities described in the State Plan.

Participating State Agency means a State agency that administers public funds related to early learning and development and is participating in the State Plan. The following State agencies are required Participating State Agencies: The agencies that administer or supervise the administration of CCDF, the section 619 of Part B of IDEA and Part C of IDEA programs, State-funded preschool, home visiting, Title I of ESEA, the Head Start State Collaboration Grant, and the Title V Maternal and Child Health Services Block Grant, the State's Child Care Licensing Agency, and the State educational agency. Other State agencies, such as the agencies that administer or supervise the administration of Child Welfare, Mental Health, Temporary Assistance for Needy Families (TANF), Community-Based Child Abuse Prevention, the Child and Adult Care Food Program, and the Adult Education and Family Literacy Act, may be Participating State Agencies if they elect to participate in the State Plan as well as the State Advisory Council on Early Childhood Education and Care.

Program Standards means the standards that serve as the basis for a Tiered Quality Rating and Improvement System and define differentiated levels of quality for Early Learning and Development Programs. Program Standards are expressed, at a minimum, by the extent to which—

(a) Early Learning and Development Standards are implemented through evidence-based activities, interventions, or curricula that are appropriate for each age group of infants, toddlers, and preschoolers;

(b) Comprehensive Assessment Systems are used routinely and appropriately to improve instruction and enhance program quality by providing robust and coherent evidence of—

(1) Children's learning and development outcomes; and

(2) Program performance;

(c) A qualified workforce improves young children's health, social, emotional, and educational outcomes;

(d) Culturally and linguistically responsive strategies are successfully used to engage families, help them build protective factors, and strengthen their capacity to support their children's development and learning. These strategies may include, but are not limited to, parent access to the program, ongoing two-way communication with families, parent education in child development, outreach to fathers and other family members, training and support for families as children move to preschool and kindergarten, social networks of support, intergenerational activities, linkages with community supports and adult and family literacy programs, parent involvement in decision making, and parent leadership development;

(e) Health promotion practices include health and safety requirements; developmental, behavioral, and sensory screening, referral, and follow up; and the promotion of physical activity, healthy eating habits, oral health and behavioral health, and health literacy among parents; and

(f) Effective data practices include gathering Essential Data Elements and entering them into the State's Statewide Longitudinal Data System or other early learning data system, using these data to guide instruction and program improvement, and making this information readily available to families.

Screening Measures means age and developmentally appropriate, valid, and reliable instruments that are used to identify children who may need follow-up services to address developmental, learning, or health needs in, at a minimum, the areas of physical health, behavioral health, oral health, child development, vision, and hearing.

State means any of the 50 States, the District of Columbia, and Puerto Rico.

State Plan means the plan submitted as part of the State's RTT-ELC application.

Statewide Longitudinal Data System means the State's longitudinal education data system that collects and maintains detailed, high-quality, student- and staff-level data that are linked across entities and that over time provide a complete academic and performance history for each student. The Statewide Longitudinal Data System is typically housed within the State educational agency but includes or can be connected to early childhood, postsecondary, and labor data.

Tiered Quality Rating and Improvement System means the system through which the State uses a set of progressively higher Program Standards to evaluate the quality of an Early Learning and Development Program and to support program improvement. A Tiered Quality Rating and Improvement System consists of four components: (a) Tiered Program Standards with multiple rating categories that clearly and meaningfully differentiate program quality levels; (b) monitoring to evaluate program quality based on the Program Standards; (c) supports to help programs meet progressively higher standards (e.g., through training, technical assistance, financial support); and (d) program quality ratings that are publically available; and includes a process for validating the system.

Workforce Knowledge and Competency Framework means a set of expectations that describes what Early Childhood Educators (including those working with children with disabilities and English learners) should know and be able to do. The Workforce Knowledge and Competency Framework, at a minimum, (a) Is evidence based; (b) incorporates knowledge and application of the State's Early Learning and Development Standards, the Comprehensive Assessment Systems, child development, health, and culturally and linguistically appropriate strategies for working with families; (c) includes knowledge of early mathematics and literacy development and effective instructional practices to support mathematics and literacy development in young children; (d) incorporates effective use of data to guide instruction and program improvement; (e) includes effective behavior management strategies that promote positive social and emotional development and reduce challenging behaviors; (f) incorporates feedback from experts at the State's postsecondary institutions and other early learning and development experts and Early Childhood Educators; and (g) includes knowledge of protective factors and effective approaches to partnering with families and building families' knowledge, skills, and capacity to promote children's health and development.

Program Authority: Sections 14005 and 14006, of the American Recovery and Reinvestment Act of 2009 (ARRA) (Pub. L. 111-5), as amended by section 1832(b) of Division B of the Department of Defense and Full-Year Continuing Appropriations Act, 2011 (Pub. L. 112-10), and the Department of Education Appropriations Act, 2012 (Title III of Division F of Pub. L. 112-74, the Consolidated Appropriations Act, 2012).

Applicable Regulations: (a) The Education Department General Administrative Regulations (EDGAR) in 34 CFR parts 74, 75, 77, 79, 80, 81, 82, 84, 86, 97, 98, and 99. (b) The Education Department suspension and debarment regulations in 2 CFR part 3485. (c) The notice of final priorities, requirements, definitions, and selection criteria for this program, published elsewhere in this issue of the Federal Register.

II. Award Information

Type of Award: Discretionary grants.

Estimated Available Funds: $280 million.

Contingent upon the availability of funds and the quality of applications, we may make additional awards in FY 2014 from the list of unfunded applicants from this competition.

The Department of Education may use any unused funds from the FY 2013 Race to the Top—District program in the FY 2013 RTT-ELC competition. The FY 2013 Race to the Top—District competition will be announced in a separate notice published in the Federal Register. Conversely, the Department of Education may use any unused FY 2013 funds from the RTT-ELC competition in the FY 2013 Race to the Top—District competition.

Estimated Range of Awards: $37.5 million-$75 million.

Budget Requirements: To support States in planning their budgets, the Departments have developed the following budget caps for each State. We will not consider for funding an application from a State that proposes a budget that exceeds the applicable cap set for that State. The Departments developed the following categories by ranking every State according to its share of the national population of children ages birth through five-years-old from Low-Income families and identifying the natural breaks in the rank order. Then, based on population, budget caps were developed for each category.⁴

⁴ Source: U.S. Department of Commerce, Census Bureau, 2011. American Community Survey (ACS) 1-year Public Use Microdata Sample (PUMS) data.

Category 1—Up to $75 million—Florida, New York, Texas.

Category 2—Up to $52.5 million—Arizona, Georgia, Michigan, Pennsylvania.

Category 3—Up to $45 million—Alabama, Indiana, Kentucky, Louisiana, Missouri, New Jersey, Oklahoma, Puerto Rico, South Carolina, Tennessee, Virginia.

Category 4—Up to $37.5 million—Alaska, Arkansas, Connecticut, District of Columbia, Hawaii, Idaho, Iowa, Kansas, Maine, Mississippi, Montana, Nebraska, New Hampshire, Nevada, North Dakota, South Dakota, Utah, Vermont, West Virginia, Wyoming.

The State must include in its budget the amount of funds it intends to distribute through MOUs, interagency agreements, contracts, subgrants, or other mechanisms authorized by State procurement laws to localities, Early Learning Intermediary Organizations, Participating Programs, or other partners.

The State must set aside $400,000 from its grant funds for the purpose of participating in RTT-ELC grantee technical assistance activities facilitated by ED or HHS.

Estimated Number of Awards: From three to eight awards.

Note: The Departments are not bound by any estimates in this notice.

Project Period: Up to 48 months.

III. Eligibility Requirements

States must meet the following requirements:

(a) The State has not previously received an RTT-ELC grant.

(b) The Lead Agency must have executed with each Participating State Agency a memorandum of understanding or other binding agreement that the State must attach to its application, describing the Participating State Agency's level of participation in the grant. At a minimum, the MOU or other binding agreement must include an assurance that the Participating State Agency agrees to use, to the extent applicable—

(1) A set of statewide Early Learning and Development Standards;

(2) A set of statewide Program Standards;

(3) A statewide Tiered Quality Rating and Improvement System; and

(4) A statewide Workforce Knowledge and Competency Framework and progression of credentials.

(c) There must be an active MIECHV program in the State, either through the State under section 511(c) of Title V of the Social Security Act, as added by section 2951 of the Affordable Care Act of 2010 (Pub. L. 111-148), or through an eligible non-profit organization under section 511(h)(2)(B).

2. Cost Sharing or Matching: This program does not require cost sharing or matching.

3. Supplement-Not-Supplant: This program involves supplement-not-supplant funding requirements, as described in program requirement (l).

IV. Application and Submission Information

1. Address to Request Application Package: You can obtain an application package via the Internet or from the Departments. To obtain a copy via the Internet, use the following address: www.ed.gov/programs/racetothetop-earlylearningchallenge. To obtain a copy from the Departments, write, fax, call, or email: Miriam Lund, U.S. Department of Education, 400 Maryland Avenue SW., Room 3e330, Washington, DC 20202-6200. Telephone: (202) 401-2871. FAX: (202) 260-8969. Email: RTT-ELC.P3.Competition@ed.gov.

If you use a telecommunications device for the deaf (TDD) or a text telephone (TTY), call the Federal Relay Service (FRS), toll free, at 1-800-877-8339.

Individuals with disabilities can obtain a copy of the application package in an accessible format (e.g., braille, large print, audiotape, or compact disc) by contacting the program contact person listed under Accessible Format in section VIII of this notice.

2. Content and Form of Application Submission: Requirements concerning the content of an application, together with the forms you must submit, are in the application package for this competition.

Deadline for Notice of Intent to Apply: September 30, 2013.

We will be able to develop a more efficient process for reviewing grant applications if we know the approximate number of applicants that intend to apply for funding under this competition. Therefore, the Departments strongly encourage each potential applicant to notify us of the applicant's intent to submit an application for funding by emailing Miriam Lund at RTT-ELC.P3.Competition@ed.gov. This short email message should provide (1) The name of the State applying, (2) the contact person (name, phone number, and email), and (3) all competitive preference priorities the applicant intends to address. Applicants that do not submit an “Intent to Apply” email may still apply for funding.

Page Limit: The application narrative is where the applicant addresses the selection criteria that reviewers will use to evaluate applications. We recommend that the applicant limit its narrative responses to no more than 150 pages and limit its appendices to no more than 150 pages. We strongly request that applicants follow the recommended page limits. The following standards are recommended:

• A “page” is 8.5″ x 11″, on one side only, with 1″ margins at the top, bottom, and both sides.

• Each page is numbered.

• Line spacing is set to 1.5 spacing, and the font used is 12 point Times New Roman.

3. Submission Dates and Times:

Applications Available: August 30, 2013.

Deadline for Notice of Intent to Apply: September 30, 2013.

Date of Technical Assistance Planning Workshop: September 10, 2013.

To assist States in preparing the application and to respond to questions, ED and HHS intend to host a Technical Assistance Planning Workshop with potential applicants on September 10, 2013, to review the priorities, requirements, and selection criteria for this competition. To minimize travel burdens associated with this workshop and to maximize the number of potential applicants who can participate, the Departments will also broadcast this workshop live at edstream.ed.gov. The purpose of the workshop will be to allow teams of participants responsible for developing applications to review with Federal program staff the priorities, requirements, and selection criteria for this competition and to ask questions about the RTT-ELC competition. We strongly encourage all interested State applicants to participate in the workshop, either in Washington, DC. For those who cannot attend the workshop in person, a video recording of the workshop will be available on the RTT-ELC Web site at www.ed.gov/programs/racetothetop-earlylearningchallenge. The Departments may host additional conference calls, workshops, or Webinars to answer applicant questions and will be posting Frequently Asked Questions and responses on the RTT-ELC Web site. The Departments will make available all registration information and additional details for the September 10, 2013, workshop and any other technical assistance events on the RTT-ELC Web site at www.ed.gov/programs/racetothetop-earlylearningchallenge.

Deadline for Transmittal of Applications: October 16, 2013.

Applications for grants under this competition must be submitted in electronic format on a CD or DVD, by mail or hand delivery. For information (including dates and times) about how to submit your application by mail or hand delivery, please refer to section IV (7) Other Submission Requirements of this notice. We will not consider an application that does not comply with the deadline requirements.

We will provide Congress with the names of the States that have submitted applications, and we will post the names of these States on ED's Web site. We will also post all applications submitted. Therefore, please ensure that your application does not include personally identifiable information, proprietary information, or other non-public information.

Individuals with disabilities who need an accommodation or auxiliary aid in connection with the application process should contact the person listed under FOR FURTHER INFORMATION CONTACT in section VII of this notice. If the Departments provide an accommodation or auxiliary aid to an individual with a disability in connection with the application process, the individual's application remains subject to all other requirements and limitations in this notice.

4. Intergovernmental Review: This program is subject to Executive Order 12372 and the regulations in 34 CFR part 79. However, under 34 CFR 79.8(a), we waive intergovernmental review in order to make awards by the end of the period of availability of these funds, December 31, 2013.

5. Funding Restrictions: We specify unallowable costs in section (b) of Program Requirements in this notice. We reference additional regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Departments and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The SAM registration process may take seven or more business days to complete. If you are currently registered with the SAM, you may not need to make any changes. However, please make certain that the TIN associated with your DUNS number is correct. Also note that you will need to update your registration annually. This may take three or more business days to complete. Information about SAM is available at SAM.gov.

7. Other Submission Requirements: Applicants for a grant under this competition must submit: (1) An electronic copy of the application; and (2) signed originals of certain sections of the application. Applicants must submit their application in electronic format on a CD or DVD, with CD-ROM or DVD-ROM preferred. We strongly recommend that the applicant submit three CDs or DVDs. Each of these three CDs or DVDs should include the following four files:

(1) A single file that contains the body of the application narrative, including required budget tables, that has been converted into a searchable .PDF document. Note that a .PDF created from a scanned document is not searchable;

(2) A single file in a .PDF format that contains all application appendices;

(3) A single file in a .PDF format that contains all of the required signature pages. The signature pages may be scanned and turned into a PDF. Applicants should also include all signed MOUs or other binding agreements for each Participating State Agency in the application; and

(4) A single, separate file of the completed electronic budget spreadsheets (e.g., .XLS or .XLSX formats) that includes the required budget tables and budget justifications (the spreadsheets will be used by the Departments for budget reviews).

Each of these items must be clearly labeled with the applicant's name, city, state, and any other relevant identifying information. Applicants also must not password-protect these files. Additionally, please ensure that: (1) All three CDs or DVDs contain the same four files; (2) the files are not corrupted; and (3) all files print correctly. The Departments are not responsible for reviewing any information that is not able to be opened or printed from your application package.

In addition to the electronic files, applicants must submit signed originals of section IV of the application and one copy of that signed original. The Departments will not review any paper submissions of the application narrative and appendices. All applications must be submitted by mail or hand delivery. Whether you submit an application by mail or hand delivery, you must indicate on the envelope the CFDA number, including suffix letter, if any, of the competition under which you are submitting your application. The instructions for each delivery method are provided below. The Departments must receive the application by 4:30:00 p.m., Washington, DC time, on October 16, 2013. If we receive an application after the application deadline, we will not consider that application.

a. Submission of Applications by Mail:

If you submit your application by mail (through the U.S. Postal Service or a commercial carrier), we must receive your three CDs or DVDs containing the four application files and the signed original of section IV on or before the application deadline date and time. Therefore to avoid delays, we strongly recommend sending the application via overnight mail. Mail the application to the Departments at the following address: U.S. Department of Education, Application Control Center, Attention: CFDA Number 84.412A, LBJ Basement Level 1, 400 Maryland Avenue SW., Washington, DC 20202-4260.

If we receive an application after the application deadline, we will not consider that application.

b. Submission of Applications by Hand Delivery:

If you submit your application by hand delivery, you (or a courier service) must deliver the three CDs or DVDs containing the four application files and the signed originals of section IV on or before the application deadline date and time, to the Departments at the following address: U.S. Department of Education, Application Control Center, Attention: CFDA Number 84.412A, 550 12th Street SW., Room 7041, Potomac Center Plaza, Washington, DC 20202-4260.

The Application Control Center accepts hand deliveries daily between 8:00 a.m. and 4:30 p.m., Washington, DC, time, except Saturdays, Sundays, and Federal holidays. In accordance with EDGAR § 75.216(b) and (c), an application will not be evaluated for funding if the applicant does not comply with all of the procedural rules that govern the submission of the application or the application does not contain the information required under the program.

Note for Mail or Hand Delivery of Applications: When you mail or hand deliver your application to the Departments—

(1) You must indicate on the envelope the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are in the notice of final priorities, requirements, definitions, and selection criteria for this program, published elsewhere in this issue of the Federal Register. We will use the following selection criteria to evaluate applications submitted under the RTT-ELC competition. The maximum score for all the selection criteria and competitive preference priorities is 315 points. The maximum score for each selection criterion is indicated in parentheses. The reviewers will utilize the scoring rubric located in Appendix A of this notice when evaluating the following selection criteria:

Core Areas—Sections (A) (Successful State Systems) and (B) (High-Quality, Accountable Programs)

States must address in their application all of the selection criteria in the Core Areas—Sections (A) (Successful State Systems) and (B) (High-Quality, Accountable Programs).

A. Successful State Systems

(A)(1) Demonstrating past commitment to early learning and development. (20 points)

The extent to which the State has demonstrated past commitment to and investment in high-quality, accessible Early Learning and Development Programs and services for Children with High Needs, as evidenced by the State's—

(a) Financial investment, from five years ago to the present, in Early Learning and Development Programs, including the amount of these investments in relation to the size of the State's population of Children with High Needs during this time period;

(b) Increasing, from the previous five years to the present, the number of Children with High Needs participating in Early Learning and Development Programs;

(c) Existing early learning and development legislation, policies, or practices; and

(d) Current status in key areas that form the building blocks for a high-quality early learning and development system, including Early Learning and Development Standards, Comprehensive Assessment Systems, health promotion practices, family engagement strategies, the development of Early Childhood Educators, Kindergarten Entry Assessments, and effective data practices.

Evidence for (A)(1):

• The number and percentage of children from Low-Income families in the State, by age.

• The number and percentage of Children with High Needs from special populations in the State.

• The number of Children with High Needs in the State who are enrolled in Early Learning and Development Programs, by age, race, and ethnicity.

• Data currently available, if any, on the status of children at kindergarten entry (across Essential Domains of School Readiness, if available), including data on the readiness gap between Children with High Needs and their peers.

• Data currently available, if any, on program quality across different types of Early Learning and Development Programs.

• The number of Children with High Needs participating in each type of Early Learning and Development Program for each of the previous five years to the present.

• The number of Children with High Needs participating in each type of Early Learning and Development Program for each of the previous five years to the present.

• The current status of the State's Early Learning and Development Standards, for each of the Essential Domains of School Readiness, by age group of infants, toddlers, and preschoolers.

• The elements of a Comprehensive Assessment System currently required within the State by different types of Early Learning and Development Programs or systems.

• The elements of high-quality health promotion practices currently required within the State by different types of Early Learning and Development Programs or systems.

• The elements of a high-quality family engagement strategy currently required within the State by different types of Early Learning and Development Programs or systems.

• All early learning and development workforce credentials currently available in the State, including whether credentials are aligned with a State Workforce Knowledge and Competency Framework and the number and percentage of Early Childhood Educators who have each type of credential.

• The current status of postsecondary institutions and other professional development providers in the State that issue credentials or degrees to Early Childhood Educators.

• The current status of the State's Kindergarten Entry Assessment.

• All early learning and development data systems currently used in the State.

Performance Measures for (A)(1):

• None required.

(A)(2) Articulating the State's rationale for its early learning and development reform agenda and goals. (20 points)

The extent to which the State clearly articulates a comprehensive early learning and development reform agenda that is ambitious yet achievable, builds on the State's progress to date (as demonstrated in selection criterion (A)(1)), is likely to result in improved school readiness for Children with High Needs, and includes—

(a) Ambitious yet achievable goals for improving program quality, improving outcomes for Children with High Needs statewide, and closing the educational gaps between Children with High Needs and their peers;

(b) An overall summary of the State Plan that clearly articulates how the High-Quality Plans proposed under each selection criterion, when taken together, constitute an effective reform agenda that establishes a clear and credible path toward achieving these goals; and

(c) A specific rationale that justifies the State's choice to address the selected criteria in each Focused Investment Area (C), (D), and (E), including why these selected criteria will best achieve these goals.

Evidence for (A)(2):

• The State's goals for improving program quality statewide over the period of this grant.

• The State's goals for improving child outcomes statewide over the period of this grant.

• The State's goals for closing the readiness gap between Children with High Needs and their peers at kindergarten entry.

• Identification of the two or more selection criteria that the State has chosen to address in Focused Investment Area (C).

• Identification of the one or more selection criteria that the State has chosen to address in Focused Investment Area (D).

• Identification of the one or more selection criteria that the State has chosen to address in Focused Investment Area (E).

• For each Focused Investment Area (C), (D), and (E), a description of the State's rationale for choosing to address the selected criteria in that Focused Investment Area, including how the State's choices build on its progress to date in each Focused Investment Area (as outlined in the narrative under (A)(1) in the application) and why these selected criteria will best achieve the State's ambitious yet achievable goals for improving program quality, improving outcomes for Children with High Needs statewide, and closing the educational gap between Children with High Needs and their peers.

Performance Measures for (A)(2):

• None required.

(A)(3) Aligning and coordinating early learning and development across the State. (10 points)

The extent to which the State has established, or has a High-Quality Plan to establish, strong participation in and commitment to the State Plan by Participating State Agencies and other early learning and development stakeholders by—

(a) Demonstrating how the Participating State Agencies and other partners, if any, will identify a governance structure for working together that will facilitate interagency coordination, streamline decision making, effectively allocate resources, and create long-term sustainability, and describing—

(1) The organizational structure for managing the grant and how it builds upon existing interagency governance structures such as children's cabinets, councils, and commissions, if any already exist and are effective;

(2) The governance-related roles and responsibilities of the Lead Agency, the State Advisory Council on Early Childhood Education and Care, each Participating State Agency, and the State's Interagency Coordinating Council for Part C of IDEA, and other partners, if any;

(3) The method and process for making different types of decisions (e.g., policy, operational) and resolving disputes; and

(4) The plan for when and how the State will involve representatives from Participating Programs, Early Childhood Educators or their representatives, parents and families, including parents and families of Children with High Needs, and other key stakeholders in the planning and implementation of the activities carried out under the grant;

(b) Demonstrating that the Participating State Agencies are strongly committed to the State Plan, to the governance structure of the grant, and to effective implementation of the State Plan, by including in the MOUs or other binding agreements between the State and each Participating State Agency—

(1) Terms and conditions that reflect a strong commitment to the State Plan by each Participating State Agency, including terms and conditions designed to align and leverage the Participating State Agencies' existing funding to support the State Plan;

(2) “Scope-of-work” descriptions that require each Participating State Agency to implement all applicable portions of the State Plan and a description of efforts to maximize the number of Early Learning and Development Programs that become Participating Programs; and

(3) A signature from an authorized representative of each Participating State Agency; and

(c) Demonstrating commitment to the State Plan from a broad group of stakeholders that will assist the State in reaching the ambitious yet achievable goals outlined in response to selection criterion (A)(2)(a), including by obtaining—

(1) Detailed and persuasive letters of intent or support from Early Learning Intermediary Organizations, and, if applicable, local early learning councils; and

(2) Letters of intent or support from such other stakeholders as Early Childhood Educators or their representatives; the State's legislators; local community leaders; State or local school boards; representatives of private and faith-based early learning programs; other State and local leaders (e.g., business, community, tribal, civil rights, education association leaders); adult education and family literacy State and local leaders; family and community organizations; representatives from the disability community, the English learner community, and entities representing other Children with High Needs (e.g., parent councils, nonprofit organizations, local foundations, tribal organizations, and community-based organizations); libraries and children's museums; health providers; public television stations; and postsecondary institutions.

Evidence for (A)(3)(a) and (b):

• For (A)(3)(a)(1): An organizational chart that shows how the grant will be governed and managed.

• Governance-related roles and responsibilities.

• A copy of all fully executed MOUs or other binding agreements that cover each Participating State Agency. (MOUs or other binding agreements should be referenced in the narrative but must be included in the Appendix to the application).

Evidence for (A)(3)(c)(1):

• A list of every Early Learning Intermediary Organization and local early learning council (if applicable) in the State that indicates which organizations and councils have submitted letters of intent or support.

• A copy of every letter of intent or support from Early Learning Intermediary Organizations and local early learning councils.

Evidence for (A)(3)(c)(2):

• A copy of every letter of intent or support from other stakeholders.

Performance Measures for (A)(3):

• None required.

(A)(4) Developing a budget to implement and sustain the work of this grant. (15 points)

The extent to which the State Plan—

(a) Demonstrates how the State will use existing funds that support early learning and development from Federal, State, private, and local sources (e.g., CCDF; Title I and II of ESEA; IDEA; Striving Readers Comprehensive Literacy Program; State preschool; Head Start Collaboration funding; MIECHV program; Title V MCH Block Grant; TANF; Medicaid; child welfare services under Title IV (B) and (E) of the Social Security Act; Statewide Longitudinal Data System; foundation; other private funding sources) for activities and services that help achieve the outcomes in the State Plan, including how the quality set-asides in CCDF will be used;

(b) Describes, in both the budget tables and budget narratives, how the State will effectively and efficiently use funding from this grant to achieve the outcomes in the State Plan, in a manner that—

(1) Is adequate to support the activities described in the State Plan;

(2) Includes costs that are reasonable and necessary in relation to the objectives, design, and significance of the activities described in the State Plan and the number of children to be served; and

(3) Details the amount of funds budgeted for Participating State Agencies, localities, Early Learning Intermediary Organizations, Participating Programs, or other partners, and the specific activities to be implemented with these funds consistent with the State Plan, and demonstrates that a significant amount of funding will be devoted to the local implementation of the State Plan; and

(c) Demonstrates that it can be sustained after the grant period ends to ensure that the number and percentage of Children with High Needs served by Early Learning and Development Programs in the State will be maintained or expanded.

Evidence for (A)(4)(a):

• The existing funds to be used to achieve the outcomes in the State Plan.

• Description of how these existing funds will be used for activities and services that help achieve the outcomes in the State Plan.

Evidence for (A)(4)(b):

• The State's budget.

• The narratives that accompany and explain the budget and describe how it connects to the State Plan.

Performance Measures for (A)(4):

• None required.

B. High-Quality, Accountable Programs

(B)(1) Developing and adopting a common, statewide Tiered Quality Rating and Improvement System. (10 points)

The extent to which the State and its Participating State Agencies have developed and adopted, or have a High-Quality Plan to develop and adopt, a Tiered Quality Rating and Improvement System that—

(a) Is based on a statewide set of tiered Program Standards that include—

(1) Early Learning and Development Standards;

(2) A Comprehensive Assessment System;

(3) Early Childhood Educator qualifications;

(4) Family engagement strategies;

(5) Health promotion practices; and

(6) Effective data practices;

(b) Is clear and has standards that are measurable, meaningfully differentiate program quality levels, and reflect high expectations of program excellence commensurate with nationally recognized standards that lead to improved learning outcomes for children; and

(c) Is linked to the State licensing system for Early Learning and Development Programs.

Evidence for (B)(1):

• Each set of existing Program Standards currently used in the State and the elements that are included in those Program Standards (Early Learning and Development Standards, Comprehensive Assessment Systems, Qualified Workforce, Family Engagement, Health Promotion, Effective Data Practices, and Other).

• To the extent the State has developed and adopted a Tiered Quality Rating and Improvement System based on a common set of tiered Program Standards that meet the elements in selection criterion (B)(1)(a), submit—

○ A copy of the tiered Program Standards;

○ Documentation that the Program Standards address all areas outlined in the definition of Program Standards, demonstrate high expectations of program excellence commensurate with nationally recognized standards, and are linked to the States licensing system; and

○ Documentation of how the tiers meaningfully differentiate levels of quality.

Performance Measures for (B)(1):

• None required.

(B)(2) Promoting participation in the State's Tiered Quality Rating and Improvement System. (15 points)

The extent to which the State has maximized, or has a High-Quality Plan to maximize, program participation in the State's Tiered Quality Rating and Improvement System by—

(a) Implementing effective policies and practices to reach the goal of having all publicly funded Early Learning and Development Programs participate in such a system, including programs in each of the following categories—

(1) State-funded preschool programs;

(2) Early Head Start and Head Start programs;

(3) Early Learning and Development Programs funded under section 619 of Part B of IDEA and Part C of IDEA;

(4) Early Learning and Development Programs funded under Title I of ESEA; and

(5) Early Learning and Development Programs receiving funds from the State's CCDF program;

(b) Implementing effective policies and practices designed to help more families afford high-quality child care and maintain the supply of high-quality child care in areas with high concentrations of Children with High Needs (e.g., maintaining or increasing subsidy reimbursement rates, taking actions to ensure affordable co-payments, providing incentives to high-quality providers to participate in the subsidy program); and

(c) Setting ambitious yet achievable targets for the numbers and percentages of Early Learning and Development Programs that will participate in the Tiered Quality Rating and Improvement System by type of Early Learning and Development Program (as listed in (B)(2)(a)(1) through (5) above).

Evidence for (B)(2):

• Any supporting evidence the State believes will be helpful to peer reviewers.

Performance Measures for (B)(2)(c):

General goals to be provided at time of application, including baseline data and annual targets:

• Number and percentage of Early Learning and Development Programs participating in the statewide Tiered Quality Rating and Improvement System, by type of Early Learning and Development Program.

(B)(3) Rating and monitoring Early Learning and Development Programs. (15 points)

The extent to which the State and its Participating State Agencies have developed and implemented, or have a High-Quality Plan to develop and implement, a system for rating and monitoring the quality of Early Learning and Development Programs participating in the Tiered Quality Rating and Improvement System by—

(a) Using a valid and reliable tool for monitoring such programs, having trained monitors whose ratings have an acceptable level of inter-rater reliability, and monitoring and rating the Early Learning and Development Programs with appropriate frequency; and

(b) Providing quality rating and licensing information to parents with children enrolled in Early Learning and Development Programs (e.g., displaying quality rating information at the program site) and making program quality rating data, information, and licensing history (including any health and safety violations) publicly available in formats that are written in plain language, and are easy to understand and use for decision making by families selecting Early Learning and Development Programs and families whose children are enrolled in such programs.

Evidence for (B)(3):

• Any supporting evidence the State believes will be helpful to peer reviewers.

Performance Measures for (B)(3):

• None required.

(B)(4) Promoting access to high-quality Early Learning and Development Programs for Children with High Needs. (20 points)

The extent to which the State and its Participating State Agencies have developed and implemented, or have a High-Quality Plan to develop and implement, a system for improving the quality of the Early Learning and Development Programs participating in the Tiered Quality Rating and Improvement System by—

(a) Developing and implementing policies and practices that provide support and incentives for Early Learning and Development Programs to continuously improve (e.g., through training, technical assistance, financial rewards or incentives, higher subsidy reimbursement rates, compensation);

(b) Providing supports to help working families who have Children with High Needs access high-quality Early Learning and Development Programs that meet those needs (e.g., providing full-day, full-year programs; transportation; meals; family support services); and

(c) Setting ambitious yet achievable targets for increasing—

(1) The number of Early Learning and Development Programs in the top tiers of the Tiered Quality Rating and Improvement System; and

(2) The number and percentage of Children with High Needs who are enrolled in Early Learning and Development Programs that are in the top tiers of the Tiered Quality Rating and Improvement System.

Evidence for (B)(4):

• Any supporting evidence the State believes will be helpful to peer reviewers.

Performance Measures for (B)(4)(c):

General goals to be provided at time of application, including baseline data and annual targets:

• Number of Early Learning and Development Programs in the top tiers of the Tiered Quality Rating and Improvement System, by type of Early Learning and Development Program.

• Number and Percentage of Children with High Needs who are enrolled in Early Learning and Development Programs that are in the top tiers of the Tiered Quality Rating and Improvement System, by type of Early Learning and Development Program.

(B)(5) Validating the effectiveness of State Tiered Quality Rating and Improvement Systems. (15 points)

The extent to which the State has a High-Quality Plan to design and implement evaluations—working with an independent evaluator and, when warranted, as part of a cross-State evaluation consortium—of the relationship between the ratings generated by the State's Tiered Quality Rating and Improvement System and the learning outcomes of children served by the State's Early Learning and Development Programs by—

(a) Validating, using research-based measures, as described in the State Plan (which also describes the criteria that the State used or will use to determine those measures), that the tiers in the State's Tiered Quality Rating and Improvement System accurately reflect differential levels of program quality; and

(b) Assessing, using appropriate research designs and measures of progress (as identified in the State Plan), the extent to which changes in quality ratings are related to progress in children's learning, development, and school readiness.

Evidence for (B)(5):

• Any supporting evidence the State believes will be helpful to peer reviewers.

Performance Measures for (B)(5):

• None required.

Focused Investment Areas—Sections (C), (D), and (E)

Each State must address in its application—

(1) Two or more of the selection criteria in Focused Investment Area (C);

(2) One or more of the selection criteria in Focused Investment Area (D); and

(3) One or more of the selection criteria in Focused Investment Area (E).

C. Promoting Early Learning and Development Outcomes for Children

The total available points that an applicant may receive for selection criteria (C)(1) through (C)(4) is 60. The 60 points will be divided by the number of selection criteria that the applicant chooses to address so that each selection criterion is worth the same number of points. For example, if the applicant chooses to address all four selection criteria under this Focused Investment Area, each criterion will be worth up to 15 points. If the applicant chooses to address two selection criteria, each criterion will be worth up to 30 points.

The applicant must address at least two of the selection criteria within Focused Investment Area (C), which are as follows:

(C)(1) Developing and using statewide, high-quality Early Learning and Development Standards.

The extent to which the State has a High-Quality Plan to put in place high-quality Early Learning and Development Standards that are used statewide by Early Learning and Development Programs and that—

(a) Includes evidence that the Early Learning and Development Standards are developmentally, culturally, and linguistically appropriate across each age group of infants, toddlers, and preschoolers, and that they cover all Essential Domains of School Readiness;

(b) Includes evidence that the Early Learning and Development Standards are aligned with the State's K-3 academic standards in, at a minimum, early literacy and mathematics;

(c) Includes evidence that the Early Learning and Development Standards are incorporated in Program Standards, curricula and activities, Comprehensive Assessment Systems, the State's Workforce Knowledge and Competency Framework, and professional development activities; and that they are shared with parents and families along with suggestions for appropriate strategies they can use at home to support their children's learning and development; and

(d) Includes evidence that the State has supports in place to promote understanding of and commitment to the Early Learning and Development Standards across Early Learning and Development Programs.

Evidence for (C)(1)(a) and (b):

• To the extent the State has implemented Early Learning and Development Standards that meet the elements in selection criteria (C)(1)(a) and (b), submit—

○ Proof of use by all types of Early Learning and Development Programs in the State;

○ The State's Early Learning and Development Standards for:

—Infants and toddlers

—Preschoolers

○ Documentation that the standards are developmentally, linguistically, and culturally appropriate for all children, including children with disabilities and developmental delays and English learners;

○ Documentation that the standards address all Essential Domains of School Readiness and that they are of high quality; and

○ Documentation of the alignment between the State's Early Learning and Development Standards and the State's K-3 standards.

Performance Measures for (C)(1):

• None required.

(C)(2) Supporting effective uses of Comprehensive Assessment Systems.

The extent to which the State has a High-Quality Plan to support the effective implementation of developmentally appropriate Comprehensive Assessment Systems by—

(a) Working with Early Learning and Development Programs to select assessment instruments and approaches that are appropriate for the target populations and purposes;

(b) Working with Early Learning and Development Programs to strengthen Early Childhood Educators' understanding of the purposes and uses of each type of assessment included in the Comprehensive Assessment Systems;

(c) Articulating an approach for aligning and integrating assessments and sharing assessment results, as appropriate, in order to avoid duplication of assessments and to coordinate services for Children with High Needs who are served by multiple Early Learning and Development Programs;

(d) Training Early Childhood Educators to appropriately administer assessments and interpret and use assessment data in order to inform and improve instruction, programs, and services, and to effectively solicit and use family input on children's development and needs; and

(e) Articulating guidelines and procedures for sharing assessment data and results with parents, involving them in decisions about their children's care and education, and helping them identify concrete actions they can take to address developmental issues identified through the assessment process.

Evidence for (C)(2):

• Any supporting evidence the State believes will be helpful to peer reviewers.

Performance Measures for (C)(2):

• None required.

(C)(3) Identifying and addressing the health, behavioral, and developmental needs of Children with High Needs to improve school readiness.

The extent to which the State has a High-Quality Plan to identify and address the health, behavioral, and developmental needs of Children with High Needs by—

(a) Establishing a progression of standards for ensuring children's health and safety; ensuring that health and behavioral screening and follow-up occur; promoting children's physical, social, and emotional development across the levels of its Program Standards; and involving families as partners and building parents' capacity to promote their children's physical, social, and emotional health;

(b) Increasing the number of Early Childhood Educators who are trained and supported on an ongoing basis in meeting the health standards;

(c) Promoting healthy eating habits, improving nutrition, expanding physical activity, and providing information and guidance to families to promote healthy habits at home;

(d) Leveraging existing resources to meet ambitious yet achievable annual targets to increase the number of Children with High Needs who—

(1) Are screened using Screening Measures that align with the Medicaid Early Periodic Screening, Diagnostic and Treatment benefit (see section 1905(r)(5) of the Social Security Act) or the well-baby and well-child services available through the Children's Health Insurance Program (42 CFR 457.520), and that, as appropriate, are consistent with the Child Find provisions in IDEA (see sections 612(a)(3) and 635(a)(5) of IDEA);

(2) Are referred for services based on the results of those screenings and, where appropriate, received follow-up; and

(3) Participate in ongoing health care as part of a schedule of well-child care, including the number of children who are up to date in a schedule of well-child care; and

(e) Developing a comprehensive approach to increase the capacity and improve the overall quality of Early Learning and Development Programs to support and address the social and emotional development (including infant-early childhood mental health) of children from birth to age five.

Evidence for (C)(3)(a):

• To the extent the State has established a progression of health standards across the levels of Program Standards that meet the elements in selection criterion (C)(3)(a), submit—

○ The progression of health standards used in the Program Standards and the State's plans for improvement over time, including documentation demonstrating that this progression of standards appropriately addresses health and safety standards; developmental, behavioral, and sensory screening, referral, and follow-up; health promotion including healthy eating habits, improved nutrition, and increased physical activity; oral health; social and emotional development; family involvement and capacity-building; and health literacy among parents and children.

Evidence for (C)(3)(b):

• To the extent the State has existing and projected numbers and percentages of Early Childhood Educators who receive training and support in meeting the health standards, the State must submit documentation of these data. If the State does not have these data, the State must outline its plan for deriving them.

Evidence for (C)(3)(c):

• Any supporting evidence the State believes will be helpful to peer reviewers.

Evidence for (C)(3)(d):

• Documentation of the State's existing and future resources that are or will be used to address the health, behavioral, and developmental needs of Children with High Needs. At a minimum, documentation must address the screening and referral of and follow-up for all Children with High Needs, and how families will be engaged in the process; how the State will promote the participation of Children with High Needs in ongoing health care as part of a schedule of well-child care; how the State will promote healthy eating habits and improved nutrition as well as increased physical activity for Children with High Needs; and how the State will promote health literacy for children and parents.

Performance Measures for (C)(3)(d):

General goals to be provided at time of application, including baseline data and annual targets:

• Number of Children with High Needs screened.

• Number of Children with High Needs referred for services and who received follow-up/treatment.

• Number of Children with High Needs who participate in ongoing health care as part of a schedule of well-child care.

• Of these participating Children with High Needs, the number or percentage of children who are up-to-date in receiving services as part of a schedule of well-child care.

Evidence for (C)(3)(e):

• Any supporting evidence the State believes will be helpful to peer reviewers.

(C)(4) Engaging and supporting families.

The extent to which the State has a High-Quality Plan to provide culturally and linguistically appropriate information and support to families of Children with High Needs in order to promote school readiness for their children by—

(a) Establishing a progression of culturally and linguistically appropriate standards for family engagement across the levels of its Program Standards, including activities that enhance the capacity of families to support their children's education and development and help families build protective factors;

(b) Increasing the number and percentage of Early Childhood Educators trained and supported on an ongoing basis to implement the family engagement strategies included in the Program Standards; and

(c) Promoting family support and engagement statewide, including by leveraging other existing resources, such as home visiting programs, family resource centers, family support networks, and other family-serving agencies and organizations, and through outreach to family, friend, and neighbor caregivers.

Evidence for (C)(4)(a):

• To the extent the State has established a progression of family engagement standards across the levels of Program Standards that meet the elements in selection criterion (C)(4)(a), submit—

○ The progression of culturally and linguistically appropriate family engagement standards used in the Program Standards that includes strategies successfully used to engage families in supporting their children's development and learning. A State's family engagement standards must address, but need not be limited to: Parent access to the program, ongoing two-way communication with families, parent education in child development, outreach to fathers and other family members, training and support for families as children move to preschool and kindergarten, social networks of support, intergenerational activities, linkages with community supports and adult and family literacy programs, parent involvement in decision making, and parent leadership development; and

○ Documentation that this progression of standards includes activities that enhance the capacity of families to support their children's education and development.

Evidence for (C)(4)(b):

• To the extent the State has existing and projected numbers and percentages of Early Childhood Educators who receive training and support on the family engagement strategies included in the Program Standards, the State must submit documentation of these data. If the State does not have these data, the State must outline its plan for deriving them.

Evidence for (C)(4)(c):

• Documentation of the State's existing resources that are or will be used to promote family support and engagement statewide, including through home visiting programs and other family-serving agencies and the identification of new resources that will be used to promote family support and engagement statewide.

Performance Measures for (C)(4)

• None required.

D. A Great Early Childhood Education Workforce

The total available points that a State may receive for selection criteria (D)(1) and (D)(2) is 40. The 40 points will be divided by the number of selection criteria that the applicant chooses to address so that each selection criterion is worth the same number of points. For example, if the applicant chooses to address both selection criteria under this Focused Investment Area, each criterion will be worth up to 20 points. If the applicant chooses to address one selection criterion, the criterion will be worth up to 40 points.

The applicant must address at least one of the selection criteria within Focused Investment Area (D), which are as follows:

(D)(1) Developing a Workforce Knowledge and Competency Framework and a progression of credentials.

The extent to which the State has a High-Quality Plan to—

(a) Develop a common, statewide Workforce Knowledge and Competency Framework designed to promote children's learning and development and improve child outcomes;

(b) Develop a common, statewide progression of credentials and degrees aligned with the Workforce Knowledge and Competency Framework; and

(c) Engage postsecondary institutions and other professional development providers in aligning professional development opportunities with the State's Workforce Knowledge and Competency Framework.

Evidence for (D)(1):

• To the extent the State has developed a common, statewide Workforce Knowledge and Competency Framework that meets the elements in selection criterion (D)(1), submit:

○ The Workforce Knowledge and Competency Framework;

○ Documentation that the State's Workforce Knowledge and Competency Framework addresses the elements outlined in the definition of Workforce Knowledge and Competency Framework in the Program Definitions section of this notice and is designed to promote children's learning and development and improve outcomes.

Performance Measures for (D)(1)

• None required.

(D)(2) Supporting Early Childhood Educators in improving their knowledge, skills, and abilities.

The extent to which the State has a High-Quality Plan to improve the effectiveness and retention of Early Childhood Educators who work with Children with High Needs, with the goal of improving child outcomes by—

(a) Providing and expanding access to effective professional development opportunities that—

(1) Are aligned with the State's Workforce Knowledge and Competency Framework;

(2) Tightly link training with professional development approaches, such as coaching and mentoring; and

(3) Are supported by strong evidence (e.g., available evaluations, developmental theory, or data or information) as to why these policies and incentives will be effective in improving outcomes for Children with High Needs;

(b) Implementing effective policies and incentives (e.g., scholarships, compensation and wage supplements, tiered reimbursement rates, other financial incentives, management opportunities) to promote professional improvement and career advancement along an articulated career pathway that—

(1) Are aligned with the State's Workforce Knowledge and Competency Framework;

(2) Tightly link training with professional development approaches, such as coaching and mentoring; and

(3) Are supported by strong evidence (e.g., available evaluations, developmental theory, or data or information) as to why these policies and incentives will be effective in improving outcomes for Children with High Needs;

(c) Publicly reporting aggregated data on Early Childhood Educator development, advancement, and retention; and

(d) Setting ambitious yet achievable targets for—

(1) Increasing the number of postsecondary institutions and professional development providers with programs that are aligned to the Workforce Knowledge and Competency Framework and the number of Early Childhood Educators who receive credentials from postsecondary institutions and professional development providers with programs that are aligned to the Workforce Knowledge and Competency Framework; and

(2) Increasing the number and percentage of Early Childhood Educators who are progressing to higher levels of credentials that align with the Workforce Knowledge and Competency Framework.

Evidence for (D)(2):

• Evidence to support why the proposed professional development opportunities, policies, and incentives will be effective in improving outcomes for Children with High Needs (e.g., available evaluations, developmental theory, or data or information about the population of Children with High Needs in the State).

Performance Measures for (D)(2)(d):

General goals to be provided at time of application, including baseline data and annual targets:

• (D)(2)(d)(1): Number of postsecondary institutions and professional development providers with programs that are aligned to the State's Workforce Knowledge and Competency Framework, and the number of Early Childhood Educators receiving credentials from those aligned postsecondary institutions or professional development providers.

• (D)(2)(d)(2): Number and percentage of Early Childhood Educators who are progressing to higher levels of credentials that align with the State's Workforce Knowledge and Competency Framework.

E. Measuring Outcomes and Progress

The total available points an applicant may receive for selection criteria (E)(1) and (E)(2) is 40. The 40 points will be divided by the number of selection criteria that the applicant chooses to address so that each selection criterion is worth the same number of points. For example, if the applicant chooses to address both selection criteria under this Focused Investment Area, each criterion will be worth up to 20 points. If the applicant chooses to address one selection criterion, the criterion will be worth up to 40 points.

The applicant must address at least one of the selection criteria within Focused Investment Area (E), which are as follows:

(E)(1) Understanding the status of children's learning and development at kindergarten entry.

The extent to which the State has a High-Quality Plan to implement, independently or as part of a cross-State consortium, a common, statewide Kindergarten Entry Assessment that informs instruction and services in the early elementary grades and that—

(a) Is aligned with the State's Early Learning and Development Standards and covers all Essential Domains of School Readiness;

(b) Is valid, reliable, and appropriate for the target population and for the purpose for which it will be used, including for English learners and children with disabilities;

(c) Is administered beginning no later than the start of the school year ending during the fourth year of the grant to children entering a public school kindergarten; States may propose a phased implementation plan that forms the basis for broader statewide implementation;

(d) Is reported to the Statewide Longitudinal Data System, and to the early learning data system, if it is separate from the Statewide Longitudinal Data System, as permitted under and consistent with the requirements of Federal, State, and local privacy laws; and

(e) Is funded, in significant part, with Federal or State resources other than those available under this grant (e.g., with funds available under section 6111 or 6112 of ESEA).

Evidence for (E)(1):

• Any supporting evidence the State believes will be helpful to peer reviewers.

Performance Measures for (E)(1):

• None required.

(E)(2) Building or enhancing an early learning data system to improve instruction, practices, services, and policies.

The extent to which the State has a High-Quality Plan to enhance the State's existing Statewide Longitudinal Data System or to build or enhance a separate, coordinated, early learning data system that aligns and is interoperable with the Statewide Longitudinal Data System, and that either data system—

(a) Has all of the Essential Data Elements;

(b) Enables uniform data collection and easy entry of the Essential Data Elements by Participating State Agencies and Participating Programs;

(c) Facilitates the exchange of data among Participating State Agencies by using standard data structures, data formats, and data definitions such as Common Education Data Standards to ensure interoperability among the various levels and types of data;

(d) Generates information that is timely, relevant, accessible, and easy for Early Learning and Development Programs and Early Childhood Educators to use for continuous improvement and decision making and to share with parents and other community stakeholders; and

(e) Meets the Data System Oversight Requirements and complies with the requirements of Federal, State, and local privacy laws.

Evidence for (E)(2):

• Any supporting evidence the State believes will be helpful to peer reviewers.

Performance Measures for (E)(2):

• None required.

2. Review and Selection Process:

The Departments will screen applications that are received by the deadline listed in this notice and will determine which States are eligible based on whether they have met the eligibility requirements in paragraphs (1)(a), (1)(b), and (1)(c) of section III (Eligibility Information) of this notice; the Departments will not consider further those applicants deemed ineligible under eligibility requirements in paragraphs (1)(a), (1)(b), and (1)(c) of that section.

The Departments intend to use a peer review process with panels of three reviewers per application. Review panels will be created based on the number of applications received.

After the review process is complete, the selection of grantees will take into account, consistent with 34 CFR 75.217, the rank order of applications; each applicant's status with respect to the Absolute Priority and the eligibility requirements (1)(a), (1)(b), and (1)(c) of section III (Eligibility Information) of this notice; and any other relevant information. In addition, we remind potential applicants that in reviewing applications in any discretionary grant competition, the Secretary of Education may consider, under 34 CFR 75.217(d)(3), the applicant's past performance in carrying out a previous reward, such as the applicant's use of funds, achievement of project objectives, and compliance with grant conditions, as well as the applicant's prior record in submitting timely and adequate performance reports. All applicants will receive their reviewers' comments and scores.

In addition, in making a competitive grant award, various assurances are required from grantees, including those applicable to Federal civil rights laws that prohibit discrimination in programs or activities receiving Federal financial assistance from the Department of Education (34 CFR 100.4, 104.5, 106.4, 108.8, and 110.23).

In addition to considering other relevant factors (see 34 CFR 75.217(d)(3)), the selection of grantees may consider the need to ensure that high-quality early learning and development systems are developed in States addressing the needs of children in rural areas. Awards may be granted to high-quality applications out of rank order to meet this need.

We will post all submitted applications (both successful and unsuccessful) on ED's Web site, together with the final scores each application received. We will post each reviewer's final scores and comments on reviewed applications, with the names of reviewers redacted.

3. Special Conditions: Under 34 CFR 74.14 and 80.12, the Secretary of Education may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, ED will notify the State.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting:

(a) Any State that applies for a grant under this competition must ensure that it has in place the necessary processes and systems to comply with the reporting requirements in 2 CFR part 170 should it receive funding under the competition. This does not apply if the State has an exception under 2 CFR 170.110(b).

(b) A State receiving funds under an RTT-ELC grant must submit an annual report that must include, in addition to the standard elements, a description of the State's progress to date on its goals, timelines, and budgets, as well as actual performance compared to the annual targets the State established in its application with respect to each performance measure. Further, a State receiving funds under this program is accountable for meeting the goals, timelines, budget, and annual targets established in the application; adhering to an annual fund drawdown schedule that is tied to meeting these goals, timelines, budget, and annual targets; and fulfilling and maintaining all other conditions for the conduct of the project. The Departments will monitor a State's progress in meeting the State's goals, timelines, budget, and annual targets and in fulfilling other applicable requirements. In addition, we may collect additional data as part of a State's annual reporting requirements.

To support a collaborative process with the State, we may require that applicants who are selected to receive an award enter into a written performance or cooperative agreement. If we determine that a State is not meeting its goals, timelines, budget, or annual targets or is not fulfilling other applicable requirements, we will take appropriate action, which could include establishing a collaborative process or taking enforcement measures with respect to this grant, such as placing the State in high-risk status, putting the State on reimbursement payment status, or delaying or withholding funds.

4. Evidence and Performance Measures: Evidence and performance measures for this notice follow directly after each selection criteria.

VII. Agency Contact

FOR FURTHER INFORMATION CONTACT: Miriam Lund, U.S. Department of Education, 400 Maryland Ave., SW., room 3E330, Washington, DC 20202-6200. Telephone: 202-401-2871 or by email: RTT-ELC.P3.Competition@ed.gov.

If you use a TDD or a TTY, call the FRS, toll free, at 1-800-877-8339.

VIII. Other Information

Accessible Format: Individuals with disabilities can obtain this document in an accessible format (e.g., braille, large print, audiotape, or compact disc) on request to the program contact person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of these Departments published in the Federal Register, in text or Adobe Portable Document Format (PDF). To use PDF you must have Adobe Acrobat Reader, which is available free at the site.

You may also access documents of these Departments published in the Federal Register by using the article search feature at: www.federalregister.gov. Specifically, through the advanced search feature at this site, you can limit your search to documents published by these Departments.

Dated: August 26, 2013.
Deborah S. Delisle,
Assistant Secretary for Elementary and Secondary Education, U.S. Department of Education.
George H. Sheldon,
Acting Assistant Secretary for Children and Families, U.S. Department of Health and Human Services.

Appendix A. Scoring Rubric

I. Introduction

To help ensure inter-reviewer reliability and transparency for the RTT-ELC applicants, ED and HHS have created and are publishing a rubric for scoring State applications. The pages that follow detail the rubric and allocation of point values that reviewers will be using. The rubric will be used by reviewers to ensure consistency across and within review panels.

The rubric allocates points to each selection criterion. In all, the RTT-ELC scoring rubric includes 17 selection criteria and four competitive preference priorities. These collectively add up to 315 points. The selection criteria are divided into two sections: Core Areas and Focused Investment Areas.

• Applicants must respond to all of the selection criteria within each of the two Core Areas: (A) Successful State Systems and (B) High-Quality, Accountable Programs.

• Applicants have more flexibility within each of the Focused Investment Areas: (C) Promoting Early Learning and Development Outcomes for Children; (D) A Great Early Childhood Education Workforce; and (E) Measuring Outcomes and Progress. In these sections, applicants may select which selection criteria to address, focusing on those that the State believes will have the most impact on school readiness for its Children with High Needs, given that State's context and the current status of its early learning and development activities. The Focused Investment Areas must be addressed as follows.

Focused Investment Areas

• The applicant must select and address—

At least two selection criteria from Focused Investment Area (C) Promoting Early Learning and Development Outcomes for Children; and

At least one selection criterion from each of Focused Investment Areas (D) A Great Early Childhood Education Workforce and (E) Measuring Outcomes and Progress.

• Each Focused Investment Area (C), (D), and (E) is worth a specific number of points; these points will be evenly divided across the selection criteria that the applicant chooses to address in that section.

Priorities

Applicants must address the absolute priority throughout their applications; they do not write separately to this priority. The absolute priority must be met in order for an applicant to receive funding.

Applications that choose to address a competitive preference priority will earn extra points under that priority if the reviewers determine that the response is of high quality. Applicants may choose to write to the invitational priority to extend the scope of the application; applicants are invited to address this and may apply funds from this grant to implement activities under it, but do not earn additional points for doing so.

Reviewers will be required to make thoughtful judgments about the quality of the State's application and will be assessing, based on the criteria, the comprehensiveness, feasibility, and likely impact of the State's application. Reviewers will also be asked to evaluate, for example, the extent to which the State has set ambitious but achievable annual targets in its application. Reviewers will also need to make informed judgments about the State's goals, the rationales for the Focused Investment Areas, the activities the State has chosen to undertake, and the timelines and credibility of the State's plans.

This appendix includes information about the point values for each criterion and priority, guidance on scoring, and the rubric that we will provide to reviewers.

II. Points Overview

The chart below shows the maximum number of points that are assigned to each criterion.

Race to the Top-Early Learning Challenge: Points Overview | Points available | Percent
A. Successful State Systems
(A)(1) Demonstrating past commitment to early learning and development | 20 |
(A)(2) Articulating the State's rationale for its early learning and development reform agenda and goals | 20 |
(A)(3) Aligning and coordinating work across the State | 10 |
(A)(4) Developing a budget to implement and sustain the work | 15 |
Core Area A Subtotal | 65 | 23
B. High-Quality, Accountable Programs
(B)(1) Developing and adopting a common, statewide Tiered Quality Rating and Improvement System | 10 |
(B)(2) Promoting participation in the State's Tiered Quality Rating and Improvement System | 15 |
(B)(3) Rating and monitoring Early Learning and Development Programs | 15 |
(B)(4) Promoting access to high-quality Early Learning and Development Programs | 20 |
(B)(5) Validating the State's Tiered Quality Rating and Improvement System | 15 |
Core Area B Subtotal | 75 | 27
C. Promoting Early Learning and Development Outcomes for Children
(C)(1) Developing and using statewide, high-quality Early Learning and Development Standards | 60 (divided evenly across the criteria addressed) |
(C)(2) Supporting effective uses of Comprehensive Assessment Systems |
(C)(3) Identifying and addressing health, behavioral, and developmental needs |
(C)(4) Engaging and supporting families |
Focused Investment Area C Subtotal | 60 | 21
D. A Great Early Childhood Education Workforce
(D)(1) Developing a Workforce Knowledge and Competency Framework and a progression of credentials | 40 (divided evenly across the criteria addressed) |
(D)(2) Supporting Early Childhood Educators |
Focused Investment Area D Subtotal | 40 | 14
E. Measuring Outcomes and Progress
(E)(1) Understanding the status of children at kindergarten entry | 40 (divided evenly across the criteria addressed) |
(E)(2) Building or enhancing an early learning data system
Focused Investment Area E Subtotal | 40 | 14
Total Points Available for Selection Criteria | 280 |
Competitive Priority 2: Including all Early Learning and Development Programs in the TQRIS | 10 |
Competitive Priority 3: Understanding status of learning and development at kindergarten entry | 10 |
Competitive Priority 4: Creating preschool through third grade approaches to sustain improved early learning outcomes through the early elementary grades | 10 |
Competitive Priority 5: Addressing the needs of children in rural areas | 5 |
Grand Total | 315 |

III. About Scoring

General Notes about Scoring

There are two terms that we use repeatedly in the notice: High-Quality Plan and “ambitious yet achievable” goals or targets. These are anchor terms for both applicants to understand and reviewers to use in guiding their scoring. We discuss each below.

• A High-Quality Plan. In determining the quality of a State's plan for a given selection criterion or competitive preference priority, reviewers will assess the extent to which the plan meets the definition (as provided in the notice) of a High-Quality Plan, including whether it is feasible and has a high probability of successful implementation and contains the following components—

(a) The key goals;

(b) The key activities to be undertaken; the rationale for the activities; and, if applicable, where in the State the activities will be initially implemented, and where and how they will be scaled up to achieve statewide implementation;

(c) A realistic timeline, including key milestones, for implementing each key activity;

(d) The party or parties responsible for implementing each activity and other key personnel assigned to each activity;

(e) Appropriate financial resources to support successful implementation of the plan;

(f) The information requested as supporting evidence, if any, together with any additional information the State believes will be helpful to peer reviewers in judging the credibility of the plan;

(g) The information requested in the performance measures, where applicable;

(h) How the State will address the needs of the different types of Early Learning and Development Programs, if applicable; and

(i) How the State will meet the needs of Children with High Needs, as well as the unique needs of special populations of Children with High Needs.

Using the information provided to them in the application, reviewers will assess the extent to which the proposed plan in a specific selection criterion is a High-Quality Plan that is credible, feasible to implement, and likely to result in the outcomes the State has put forward.

• Ambitious yet achievable. In determining whether a State has ambitious yet achievable goals or targets for a given selection criterion, reviewers will examine the State's goals or targets in the context of the State's plan and the evidence submitted (if any) in support of the plan. Reviewers will not be looking for any specific targets nor will they necessarily reward higher targets above lower ones with higher scores. Rather, reviewers will reward States for developing goals and targets that, in light of each State's plan and the current context and status of the work in that State, are shown to be “ambitious yet achievable.”

About Assigning Points

Reviewers will assign points to an application for each selection criterion in Core Areas (A) and (B) and for each selection criterion that the State has chosen to address within Focused Investment Areas (C), (D), and (E). Reviewers will also assign points to the competitive preference priorities. Points for a selection criterion or priority (e.g., (B)(4) or Priority 2) are assigned by reviewers for the totality of the applicant's response; that is, reviewers need not divide the total available points equally across the sub-criteria.

Rubric

The following scoring rubric will be used to guide the reviewers in scoring selection criteria and priorities. (See “General Notes about Scoring” for more information about how reviewers will assess High-Quality Plans and “ambitious yet achievable” targets and goals.)

| Percentage of available points awarded (percent)
High-quality response | 80-100
Medium/high-quality response | 50-80
Medium/low-quality response | 20-50
Low-quality response | 0-20

About Priorities

There are three types of priorities in the RTT-ELC competition.

• Applicants should address the absolute priority across the entire application and should not address it separately. It will be assessed by reviewers after they have fully reviewed and evaluated the entire application, to ensure that the application has met the priority. If an application has not met the priority, it will be eliminated from the competition. A State meets the absolute priority if a majority of reviewers determines that the State has met the absolute priority.

• Applicants earn points under the competitive preference priorities in a manner similar to how they earn points under the selection criteria.

○ Priority 2 is worth up to 10 points.

○ Priority 3 is worth 10 points; all 10 points are earned if the competitive preference priority is met. A State will earn competitive preference priority points if a majority of reviewers determines that the State has met the competitive preference priority. No points are earned if a majority of reviewers determine that the applicant has not met the competitive preference priority. A State meets the competitive preference priority by addressing selection criterion (E)(1) and earning a score of at least 70 percent of the maximum points available for that criterion.

○ Priority 4 is worth up to 10 points.

○ Priority 5 is worth up to 5 points.

• The invitational priority is addressed in its own separate section. While applicants are invited to write to the invitational priority, they will not earn points under the invitational priority.

In the Event of a Tie

If two or more applications have the same score and there is not sufficient funding to support all of the tied applicants, the applicants' overall scores on Core Area (B) will be used to break the tie.

Appendix B. Participating State Agency Memorandum of Understanding

Background for Memorandum of Understanding

Each Participating State Agency identified in a State's Race to the Top-Early Learning Challenge (RTT-ELC) State Plan is required to enter into a memorandum of understanding (MOU) or other binding agreement with the State's Lead Agency that specifies the scope of the work that will be implemented by the Participating State Agency. The purpose of the MOU or other binding agreement is to define a relationship between the Lead Agency and the Participating State Agency that is specific to the RTT-ELC competition; the MOU or other binding agreement is not meant to detail all typical aspects of grant coordination or administration.

To support States in working efficiently with their Participating State Agencies to affirm each Participating State Agency's participation in the State Plan, ED and HHS have produced a model MOU, which is attached. This model MOU may serve as a template for States; however, States are not required to use it. States may use a document other than the model MOU, as long as it includes the key features noted below and in the model MOU. States should consult with their State attorneys on what is most appropriate. States may allow multiple Participating State Agencies to sign a single MOU or other binding agreement, with customized exhibits for each Participating State Agency, if the State so chooses.

At a minimum, an RTT-ELC MOU or other binding agreement should include the following key features, each of which is described in detail below and exemplified in the attached model MOU: (i) Terms and conditions; (ii) a scope of work; and (iii) authorized signatures.

(i) Terms and conditions: Each Participating State Agency must sign a standard set of terms and conditions that includes, at a minimum, key roles and responsibilities of the Lead Agency and the Participating State Agency; State recourse for non-performance by the Participating State Agency; and assurances that make clear what the Participating State Agency is agreeing to do.

(ii) Scope of work: RTT-ELC MOUs or other binding agreements must include a preliminary scope of work (included in the model RTT-ELC MOU as Exhibit I) that is completed by each Participating State Agency. The scope of work must be signed and dated by an authorized Participating State Agency official and an authorized Lead Agency official. In the interest of time and in consideration of the effort it will take for the Lead Agency and Participating State Agencies to develop detailed work plans for RTT-ELC, the scope of work submitted by Participating State Agencies and Lead Agencies as part of a State's application may be preliminary. Preliminary scopes of work must, at a minimum, identify all applicable portions of the State Plan that the Participating State Agency is agreeing to implement and include the required assurances. (Note that in order for a State to be eligible for the RTT-ELC competition, the Lead Agency must have executed with each Participating State Agency an MOU or other binding agreement, which the State must attach to its application and which must describe the Participating State Agency's level of participation in the grant and must include the required assurances.)

If a State is awarded an RTT-ELC grant, Participating State Agencies will have up to 90 days to complete final scopes of work, which must contain detailed work plans that are consistent with each Participating State Agency's preliminary scope of work and with the State's grant application, and must include the Participating State Agencies' specific goals, activities, timelines, budgets, and key personnel.

(iii) Authorized Signatures: The signatures on the MOU or other binding agreement demonstrate an acknowledgement of the relationship between the Participating State Agency and the Lead Agency. With respect to the relationship between the Participating State Agency and the Lead Agency, the Lead Agency's counter-signature on the MOU or other binding agreement indicates that the Participating State Agency's commitment is consistent with the requirement that a Participating State Agency implement all applicable portions of the State Plan.

Model Participating State Agency Memorandum of Understanding

This Memorandum of Understanding (“MOU”) is entered into by and between ____ (“Lead Agency”) and ____ (“Participating State Agency”). The purpose of this agreement is to establish a framework of collaboration, as well as articulate specific roles and responsibilities in support of the State in its implementation of an approved Race to the Top-Early Learning Challenge grant project.

I. ASSURANCES

The Participating State Agency hereby certifies and represents that it:

(1) Agrees to be a Participating State Agency and will implement those portions of the State Plan indicated in Exhibit I, if the State application is funded;

(2) Agrees to use, to the extent applicable and consistent with the State Plan and Exhibit I:

(a) A set of statewide Early Learning and Development Standards;

(b) A set of statewide Program Standards;

(c) A statewide Tiered Quality Rating and Improvement System; and

(d) A statewide Workforce Knowledge and Competency Framework and progression of credentials.

(Please note that Participating State Agencies must provide these assurances in order for the State to be eligible for a Race to the Top-Early Learning Challenge grant.)

(3) Has all requisite power and authority to execute and fulfill the terms of this MOU;

(4) Is familiar with the State's Race to the Top-Early Learning Challenge grant application and is supportive of and committed to working on all applicable portions of the State Plan;

(5) Will provide a Final Scope of Work only if the State's application is funded and will do so in a timely fashion but no later than 90 days after a grant is awarded; and will describe the Participating State Agency's specific goals, activities, timelines, budgets, and key personnel (“Participating State Agency Plan”) in a manner that is consistent with the Preliminary Scope of Work (Exhibit I), with the Budget included in section VIII of the State Plan (including existing funds, if any, that the Participating State Agency is using for activities and services that help achieve the outcomes of the State Plan); and

(6) Will comply with all of the terms of the Race to the Top-Early Learning Challenge Grant, this agreement, and all applicable Federal and State laws and regulations, including laws and regulations applicable to the Race to the Top-Early Learning Challenge program, and the applicable provisions of EDGAR (34 CFR Parts 75, 77, 79, 80, 82, 84, 86, 97, 98, and 99), and the suspension and debarment regulations in 2 CFR Part 3485.

II. PROJECT ADMINISTRATION

A. PARTICIPATING STATE AGENCY RESPONSIBILITIES

In assisting the Lead Agency in implementing the tasks and activities described in the State's Race to the Top-Early Learning Challenge grant application, the Participating State Agency will:

(1) Implement the Participating State Agency Scope of Work as identified in Exhibit I of this agreement;

(2) Abide by the governance structure outlined in the State Plan;

(3) Abide by the Participating State Agency's Budget included in section VIII of the State Plan (including the existing funds from Federal, State, private, and local sources, if any, that the Participating State Agency is using to achieve the outcomes in the RTT-ELC State Plan);

(4) Actively participate in all relevant meetings or other events that are organized or sponsored by the State, by the U.S. Department of Education (“ED”), or by the U.S. Department of Health and Human Services (“HHS”);

(5) Post to any Web site specified by the State, ED, or HHS, in a timely manner, all non-proprietary products and lessons learned developed using Federal funds awarded under the RTT-ELC grant;

(6) Participate, as requested, in any evaluations of this grant conducted by the State, ED, or HHS;

(7) Be responsive to State, ED, or HHS requests for project information including on the status of the project, project implementation, outcomes, and any problems anticipated or encountered, consistent with applicable local, State, and Federal privacy laws.

B. LEAD AGENCY RESPONSIBILITIES

In assisting the Participating State Agencies in implementing their tasks and activities described in the State's Race to the Top-Early Learning Challenge application, the Lead Agency will:

(1) Work collaboratively with the Participating State Agency and support the Participating State Agency in carrying out the Participating State Agency Scope of Work, as identified in Exhibit I of this agreement;

(2) Timely award the portion of Race to the Top-Early Learning Challenge grant funds designated for the Participating State Agency in the State Plan during the course of the project period and in accordance with the Participating State Agency's Scope of Work, as identified in Exhibit I, and in accordance with the Participating State Agency's Budget, as identified in section VIII of the State's application;

(3) Provide feedback on the Participating State Agency's status updates, any interim reports, and project plans and products;

(4) Keep the Participating State Agency informed of the status of the State's Race to the Top-Early Learning Challenge grant project and seek input from the Participating State Agency, where applicable, through the governance structure outlined in the State Plan;

(5) Facilitate coordination across Participating State Agencies necessary to implement the State Plan; and

(6) Identify sources of technical assistance for the project.

C. JOINT RESPONSIBILITIES

(1) The Lead Agency and the Participating State Agency will each appoint a key contact person for the Race to the Top-Early Learning Challenge grant.

(2) These key contacts from the Lead Agency and the Participating State Agency will maintain frequent communication to facilitate cooperation under this MOU, consistent with the State Plan and governance structure.

(3) Lead Agency and Participating State Agency personnel will work together to determine appropriate timelines for project updates and status reports throughout the grant period.

(4) Lead Agency and Participating State Agency personnel will negotiate in good faith toward achieving the overall goals of the State's Race to the Top-Early Learning Challenge grant, including when the State Plan requires modifications that affect the Participating State Agency, or when the Participating State Agency's Scope of Work requires modifications.

D. STATE RECOURSE IN THE EVENT OF PARTICIPATING STATE AGENCY'S FAILURE TO PERFORM

If the Lead Agency determines that the Participating State Agency is not meeting its goals, timelines, budget, or annual targets, or is in some other way not fulfilling applicable requirements, the Lead Agency will take appropriate enforcement action, which could include initiating a collaborative process to attempt to resolve the disagreements between the Lead Agency and the Participating State Agency, or initiating such enforcement measures as are available to the Lead Agency, under applicable State or Federal law.

III. MODIFICATIONS

This Memorandum of Understanding may be amended only by written agreement signed by each of the parties involved, in consultation with ED and HHS.

IV. DURATION

This Memorandum of Understanding shall be effective beginning on the date of the last signature hereon and, if a Race to the Top-Early Learning Challenge grant is received by the State, ending upon the expiration of the Race to the Top-Early Learning Challenge grant project period.

V. SIGNATURES

Authorized Representative of Lead Agency:

Signature Date

Print Name Title

Authorized Representative of Participating State Agency

Signature Date

Print Name Title

Exhibit I—Participating State Agency Scope of Work

The Participating State Agency hereby agrees to participate in the State Plan, as described in the State's application, and more specifically commits to undertake the tasks and activities described in detail below.

Selection criterion | Participating party | Type of participation
Example Row—shows an example of criterion (B)(1) for the State agency that oversees state-funded preschool, IDEA, and Head Start Collab Office | • State-funded preschool • IDEA preschool special ed • Head Start Collab Office | Representatives from each program are sitting on the state committee to define statewide QRIS program standards
| • Head Start Collab Office | Responsible for cross-walking Head Start performance standards with the new program standards
(B)(1) |  |
(B)(2) |  |
(B)(3) |  |
(B)(4) |  |
(B)(5) |  |
(C)(1) |  |
(C)(2) |  |
(C)(3) |  |
(C)(4) |  |
(D)(1) |  |
(D)(2) |  |
(E)(1) |  |
(E)(2) |  |

Signature (Authorized Representative of Lead Agency) |  | Date
Signature (Authorized Representative of Participating State Agency) |  | Date

[FR Doc. 2013-21139 Filed 8-29-13; 8:45 am]

BILLING CODE 4000-01-P